OFFICE OF SPECIAL COUNSEL

Notice for Public Comment: Filing of Complaints and Disclosures With the Office of Special Counsel

AGENCY: U.S. Office of Special Counsel (OSC).

ACTION: 60 Day notice and request for public comment.

SUMMARY: The U.S. Office of Special Counsel (OSC) is seeking approval from the Office of Management and Budget (OMB) for the proposed extension of a currently approved information collection used to file complaints and disclosures with OSC (Form OSC-14/dynamic electronic form). OMB first approved OSC's dynamic electronic filing form on September 18, 2017. OSC revised the previously approved form in July 2019 to reflect interim statutory changes and obtained emergency OMB/OIRA processing for that collection. A final rule authorizing use of Form OSC-14 took effect on August 26, 2019, and OMB approval on February 3, 2020, authorized use of the revised form through March 2023. The collection was subsequently re-approved through February 28, 2026. OSC now seeks to extend approval through 2029. No substantive changes to the form or collection methodology are proposed with this extension.

DATES: Written comments must be received on or before November 12, 2025.

ADDRESSES: Submit written comments to:

—By mail: Barbara Wheeler Jones, U.S. Office of Special Counsel, 1730 M Street NW, Suite 218, Washington, DC 20036.

—By email: frliaison@osc.gov.

FOR FURTHER INFORMATION CONTACT: Hnin Khaing, Senior Litigation Counsel, at (202) 804-7000 or via email at frliaison@osc.gov.

SUPPLEMENTARY INFORMATION: OSC is an independent agency responsible for investigating allegations of prohibited personnel practices (PPPs) under 5 U.S.C. 2302(b), protecting whistleblowers, enforcing certain federal employment laws under Titles 5 and 38 of the U.S. Code, and overseeing compliance with the Hatch Act regarding political activities. Pursuant to 44 U.S.C. 3506(c)(2)(A) and 5 CFR 1320.8(d), OSC specifically solicits comments on:

1. Whether the proposed collection of information is necessary for the proper performance of OSC's functions, including whether the information will have practical utility;

2. The accuracy of OSC's estimate of the burden of the proposed collection, including the validity of the methodology and assumptions used;

3. Ways to enhance the quality, utility, and clarity of the information to be collected; and

4. Ways to minimize the burden of the collection on respondents, including through the use of automated collection techniques or other forms of information technology.

All comments received will be posted without change, to the extent a docket is used, and will be a matter of public record.

Type of Review: Extension of a previously approved information collection.

OMB Control Number: 3255-0005.

Affected Public: Individuals (including current and former Federal employees and applicants for Federal employment) filing with OSC under 5 U.S.C. 1213 (whistleblower disclosures) and § 1214 (prohibited personnel practice complaints).

Respondent Obligation: Voluntary.

Frequency of Response: On occasion.

Estimated Number of Respondents/Responses: 6,000 annually. (Note: While some individuals may submit more than one filing in a year, OSC estimates total annual responses at approximately 6,000.)

Estimated Time per Response: 90 minutes (1.5 hours).

Estimated Total Annual Burden: 9,000 hours.

Estimated Total Annual Respondent Cost and Non-Hour Costs: $0 (electronic submission; no capital, start-up, operation, or maintenance costs to respondents).

Abstract/Needs and Uses: The collection enables individuals to submit disclosures of wrongdoing (5 U.S.C. 1213) and PPP complaints (5 U.S.C. 1214) through a secure, dynamic electronic form consistent with the Government Paperwork Elimination Act. The electronic format improves data quality, supports complete records, reduces resubmissions, and facilitates efficient and fair processing. This request seeks an extension of the current approval through 2029 with no substantive changes.

Request for Comments: Pursuant to 44 U.S.C. 3506(c)(2)(A) and 5 CFR 1320.8(d), OSC specifically solicits comments on:

1. Whether the proposed collection of information is necessary for the proper performance of OSC's functions, including whether the information will have practical utility;

2. The accuracy of OSC's estimate of the burden of the proposed collection, including the validity of the methodology and assumptions used;

3. Ways to enhance the quality, utility, and clarity of the information to be collected; and

4. Ways to minimize the burden of the collection on respondents, including through the use of automated collection techniques or other forms of information technology.

All comments received will be posted without change, to the extent a docket is used, and will be included in the public record.

Dated: September 5, 2025.
Barbara Jones,
Chief, Case Review Division, U.S. Office of Special Counsel.

[FR Doc. 2025-17608 Filed 9-11-25; 8:45 am]

BILLING CODE 7405-01-P